DEPARTMENT OF TRANSPORTATION

Federal Aviation Administration

14 CFR Part 71

[Docket No. FAA-2024-2529; Airspace Docket No. 24-ASW-14]

RIN 2120-AA66

Amendment of Class E Airspace; Mineral Wells, TX; Correction

AGENCY: Federal Aviation Administration (FAA), DOT.

ACTION: Final rule; correction.

SUMMARY: This action corrects a final rule published by the FAA in the Federal Register on June 4, 2025. The final rule modified Class E airspace Surface Area and Class E airspace extending upward from 700 feet above the surface for Mineral Wells, TX. This action corrects an error in the Class E airspace description.

DATES: The effective date of the final rule published in the Federal Register (90 FR 23612) remains 0901 UTC, August 7, 2025. The Director of the Federal Register approves this incorporation by reference action under 1 CFR part 51, subject to the annual revision of FAA Order JO 7400.11 and publication of conforming amendments.

ADDRESSES: FAA Order JO 7400.11J, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Rebecca Shelby, Federal Aviation Administration, Operations Support Group, Central Service Center, 10101 Hillwood Parkway, Fort Worth, TX 76177; telephone (817) 222-5857.

SUPPLEMENTARY INFORMATION:

History

The FAA published a final rule in the Federal Register (90 FR 23612; June 4, 2025), amending Class E airspace at Mineral Wells, TX. After publication, the FAA discovered that updates to the FAA's Class E airspace description contained an incorrect number. Therefore, the FAA corrects the final rule as follows.

Correction to the Final Rule

Accordingly, pursuant to the authority delegated to me, the final rule for Docket No. FAA-2024-2529, as published in the Federal Register on June 4, 2025 (90 FR 23612; FR Doc. 2025-10102) is corrected as follows:

1. On page 23613, in the third column, correct the ASW TX E5 description for Mineral Wells, TX, by deleting the text “316° bearing” and replacing it with “136° bearing”.

Issued in Fort Worth, Texas, on June 10, 2025.
Dallas W. Lantz,
Acting Manager, Operations Support Group, ATO Central Service Center.

[FR Doc. 2025-10874 Filed 6-13-25; 8:45 am]

BILLING CODE 4910-13-P